DEPARTMENT OF JUSTICE

Notice of Lodging of a Consent Decree Under the Clean Air Act

Under 28 CFR 50.7, notice is hereby given that on April 28, 2004, a proposed Consent Decree in United States v. Manufacturing Company, Civil Action No. 4:04CV495-JCH was lodged with the United States District Court for the Eastern District of Missouri.

The complaint alleges that True violated the Clean Air Act in the (1) construction and operation of various modifications at its refrigeration manufacturing plant without obtaining a construction/operation permit as required by the federally approved Missouri New Source Review (“NSR”) Rules, codified at Rule 10 CSR 10-6.060 of the Missouri State Implementation Program (“SIP”); (2) operation of its facility without applying for or obtaining an operating permit as required by the federally approved Missouri Title V provisions, Rule 10 CSR 10-6.065; and (3) violation of federally approved Missouri Rule 10 CSR 10-5.300(3)(A)(2) which requires training of all persons involved in solvent metal cleaning or degrading at all installations that emit volatile organic compounds (VOCs) from solvent metal cleaning or degreasing operations. It also alleges violations of the Resource, Conservation and Recovery Act, 42 U.S.C. 6925, and Clean Water Act, 42 U.S.C. 1321.

The Consent Decree settles these claims in exchange for payment of a civil penalty of $1,500,000 and True's performance of injunctive relief and three Supplemental Environmental Projects. True will remove the equipment for which it did not get the required permits and replace all of its solvent-based ink presses with presses that use ultraviolet light to cure ink, install three silk-screen cleaning machines that are enclosed systems with s solvent recovery system, and install a water filtration system.

The Department of Justice will receive for a period of thirty (30) days from the date of this publication comments relating to the Consent Decree. Comments should be addressed to the Assistant Attorney General, Environmental and Natural Resources Division, PO Box 7611, U.S. Department of Justice, Washington, DC 20044-7611, and should refer to U.S. v. True Manufacturing Company Consent Decree, D.J. Ref. 90-5-2-1-07357.

The Consent Decree may be examined at the Office of the United States Attorney, Eastern District of Missouri, 111 10th Street, St. Louis, MO 63102 and at U.S. EPA Region VII, U.S. EPA, Region VII, 901 N. 5th Street, Kansas City, KS 66101, (913) 551-7471. During the public comment period, the Consent Decree may also be examined on the following Department of Justice website, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury.

Robert Maher,
Assistant Chief, Environmental Enforcement Section, Environment and Natural Resources Division.

[FR Doc. 04-10842 Filed 5-12-04; 8:45 am]

BILLING CODE 4410-15-M